FEDERAL COMMUNICATIONS COMMISSION

[WT Docket No. 14-161; DA 14-1478]

Enhancements to the Commission's Universal Licensing System and Antenna Structure Registration System for Providing Access to Official Electronic Authorizations and Seeks Comment on Final Procedures

AGENCY: Federal Communications Commission.

ACTION: Notice.

SUMMARY: In this document, the Wireless Telecommunications Bureau (Bureau) seeks comment on certain procedures for implementing access to official authorizations electronically in the Commission's Universal Licensing System or Antenna Structure Registration System, while providing options for receiving authorizations on paper through the U.S. Postal Service.

DATES: Comments are due on or before November 10, 2014.

ADDRESSES: All filings in response to the Notice must refer to WT Docket No. 14-161. The Wireless Telecommunications Bureau strongly encourages parties to file comments electronically. Comment may be submitted electronically by the following methods:

• Federal Communications Commission's Web site: http://www.fcc.gov/cgb/ecfs/. Follow the instructions for submitting comments.

• By email. To obtain instructions for filing by email, filers should send an email to ecfs@fcc.gov, and include the following words in the body of the message, “get form.” A sample form and directions will be sent in response.

• Paper Filers: Parties who choose to file by paper must file an original and one copy of each filing. Filings can be sent by hand or messenger delivery, by commercial overnight courier, or by first-class or overnight U.S. Postal Service mail. All filings must be addressed to the Commission's Secretary, Attn: WTB/MD, Office of the Secretary, Federal Communications Commission. All hand-delivered or messenger-delivered paper filings for the Commission's Secretary must be delivered to FCC Headquarters at 445 12th Street SW., Room TW-A325, Washington, DC 20554. All hand deliveries must be held together with rubber bands or fasteners. All envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street SW., Washington, DC 20554.

• In addition, Parties are requested to send one copy of their comments to Best Copy and Printing, Inc., Portals II, 445 12th Street SW., Room CY-B402, Washington, DC 20554, (800) 378-3160, email FCC@BCPIWEB.com.

People with Disabilities: Contact the FCC to request reasonable accommodations (accessible format documents, sign language interpreters, CART, etc.) by email: fcc504@fcc.gov or phone: (202) 418-0530 or TTY: (202) 418-0432.

FOR FURTHER INFORMATION CONTACT: Mary Bucher at (202) 418-2656 or via email at Mary.Bucher@fcc.gov.

SUPPLEMENTARY INFORMATION: This is a summary of Public Notice (DA 14-1478) released on October 10, 2014. The complete text of the Public Notice is available for viewing via the Commission's ECFS Web site by entering the docket number, WT Docket No. 14-161. The complete text of the Public Notice is also available for public inspection and copying from 8:00 a.m. to 4:30 p.m. Eastern Time (ET) Monday through Thursday or from 8:00 a.m. to 11:30 a.m. ET on Fridays in the FCC Reference Information Center, 445 12th Street SW., Room CY-B402, Washington, DC 20554, telephone 202-488-5300, fax 202-488-5563, or you may contact BCPI at its Web site: http://www.BCPIWEB.com. When ordering documents from BCPI, please provide the appropriate FCC document number, for example, DA 14-1478.

In the Notice, the Bureau announces enhancements to the Commission's Universal Licensing System (ULS) and Antenna Structure Registration (ASR) System to allow all commercial, private and public safety wireless service licensees and ASR registrants electronic access to their current official authorizations in “Active” status. For purposes of the Notice, the term “authorization” includes all current commercial, private, and public safety wireless service licenses, commercial radio operator permits, vessel exemptions, and spectrum leases in “Active” status and authorized in parts 1, 13, 20, 22, 24, 26, 27, 74, 80, 87, 90, 95, 97 and 101 of the Commission's rules. The term also includes all current FCC Forms 854R, Antenna Structure Registrations, in “Active” status, including “Granted” or “Constructed,” and authorized under part 17 of the Commission's rules. The term does not include current authorizations in any status other than “Active,” including, for example, current authorizations in “Expired,” “Cancelled,” or “Terminated” status in ULS, or “Cancelled,” “Dismantled,” or “Terminated” status in the ASR System. In addition, the term does not include spectrum subleases or private commons arrangements, which the Commission will continue to process on a manual basis, nor does the term include authorizations archived in ULS. Antenna Structure Registrations are not archived in the ASR System. Finally, while other Commission Bureaus manage other licensing systems, the enhancements in the Notice apply only to ULS and the ASR System. As of September 1 of this year, 2,153,265 current authorizations in Active status were stored in ULS and the ASR System, and paper copies of official authorizations were mailed to licensees and registrants. The Commission's “Report on FCC Process Reform” released earlier this year recommended that, “to the extent permitted by Federal records retention requirements,” licensing Bureaus “should eliminate paper copies of licenses.” The Report further stated that “[c]onsideration should be given whether to have a transition period during which certain classes of licensees (such as small, rural providers or amateur radio operators) are excluded or permitted to opt-out of an electronic-only approach.”

To implement this recommendation, upon adoption of final procedures, the Commission will stop providing paper copies of current authorizations to licensees and registrants unless it is notified that the licensee or registrant wishes to continue receiving official authorizations on paper. In the interim, the Commission will continue to print and mail out official authorizations unless it is notified that licensees or registrants wish to stop receiving official authorizations on paper. The Bureau takes the following actions:

• The Bureau deems the electronic version of an authorization stored in ULS or the ASR System as the official Commission document. All licensees and registrants can access, through License Manager in ULS or ASR Dashboard (formerly ASR Manager) in the ASR System, the official electronic versions of their current authorizations in Active status, whether granted prior to or after release of the Notice. Only Commission licensees and registrants are afforded access to their official electronic authorizations through License Manager or ASR Dashboard.

• The Bureau seeks comment on certain aspects of its proposed modernized procedures for implementing access to official authorizations electronically through License Manager, through ASR Dashboard, and by email, while providing options for continuing to receive authorizations on paper through the U.S. Postal Service.

• The Bureau initiates an “interim test period,” which will continue until final procedures become effective. During the interim test period, licensees and registrants may elect to stop receiving authorizations on paper through the U.S. Postal Service. If no such election is made, the Commission will continue to print and mail out paper authorizations upon grant of applications to licensees and registrants. Regardless of their election, all licensees and registrants may access official electronic authorizations online and provide feedback to the Bureau through the public comment process.

• The general public will continue to be able to access unofficial reference copies of authorizations through ULS or the ASR System.

The Notice provides for a 30-day comment period on the procedures proposed below. For promulgating “rules of agency organization, procedure, or practice”—so-called “procedural rules”—section 4 of the Administrative Procedure Act (APA) exempts agencies like the Federal Communications Commission from the general APA requirements to provide the public with advance notice and opportunity for comment. While the enhancements to ULS and the ASR System that the Bureau is planning to implement fall within this exemption, the Bureau has nevertheless decided to solicit public comment, which the Bureau believes will better inform its decision-making in this particular proceeding. The Bureau anticipates issuing a further public notice announcing the adoption and implementation of final procedures in the near term. Thus, interested parties are encouraged to take advantage of the interim test period and provide detailed comments to the Bureau.

Authorizations—Official Electronic Authorizations, Electronic Access, Duplicate Copies, and Unofficial Reference Copies

Currently, once an application is granted, ULS or the ASR System generates an authorization from information provided in the granted application. The authorization is then printed on paper, placed in a postage-paid envelope, and mailed out through the U.S. Postal Service to the licensee or registrant. The Bureau finds that an electronic, online authorization can be considered the official Commission authorization under both the Federal Records Act of 1950 and the Communications Act of 1934, as amended. The Bureau therefore deems the electronic version of an authorization generated from the grant of an application and stored in ULS or the ASR System to be the Commission's official document. The Bureau notes that while it is deeming the electronic version of an authorization stored in ULS to be the Commission's official document, lifetime commercial radio operator licenses issued prior to implementation of ULS remain valid even though the license itself is not stored in ULS. The Commission currently mails the official copy of a paper authorization only to the licensee or registrant. In keeping with this practice, under the modernized process, a licensee or registrant may access its official electronic authorizations by securely logging into License Manager in ULS or ASR Dashboard in the ASR System, after which the licensee or registrant can download, save, and print copies of its authorizations, to the extent needed.

Making the official electronic authorization available to a licensee through License Manager in ULS or to a registrant through its ASR Dashboard in the ASR System allows the licensee or registrant to obtain an additional copy of an official authorization without Commission action in the event its existing copy is lost or destroyed. While under this enhanced process the need to request a duplicate paper license or registration will be virtually eliminated, the Commission will retain the capability in ULS and the ASR System that allows licensees and registrants to file applications requesting duplicate paper copies of official authorizations. The Bureau notes that if a licensee elects to submit an application for a duplicate paper license, the licensee would file its application along with any application fee required under Commission rules.

The Commission will continue providing unofficial reference copies of authorizations online through ULS and the ASR System. The reference copy includes the most recent information on the authorization, thus providing the public with current licensing or registration data without compromising the official status of the official authorization.

Proposed Enhancements

The Bureau seeks comment on certain aspects of the modernization process, under which it is seeking to eliminate the distribution of paper authorizations to the greatest extent possible. Under the proposed procedures, once an application is granted, ULS or the ASR System will generate an official electronic authorization. The Commission, however, will no longer print out the authorization on paper and mail it to the licensee or registrant unless it is notified that the licensee or registrant wishes to continue receiving its official authorization(s) on paper.

Official Electronic Authorizations Obtained Through License Manager or ASR Dashboard. The Commission now provides all licensees and registrants, through License Manager or ASR Dashboard, access to the official electronic versions of their current authorizations in Active status, whether granted prior to or after release of the Notice. As described in detail below, links to download authorizations in ULS can be found on the License Manager homepage and a registrant may download authorizations through its ASR Dashboard. In addition, licensees and registrants may download more than one authorization at a time. The Bureau seeks comment on whether this process for providing current official electronic authorizations in Active status through License Manager or ASR Dashboard sufficiently meets the needs of licensees or registrants wishing to use that option.

Official Electronic Authorizations Delivered Through Email. The Bureau also proposes a second method by which a licensee or registrant could obtain its authorizations electronically. Under this proposal, the Commission would send the official electronic authorization via email to a licensee or registrant upon grant of an application if the applicant included a valid email address under “Applicant Information” (licensee) in a ULS application form or under “Antenna Structure Ownership Information” (registrant) in an ASR System application. While in most cases a single authorization would be attached to a single email, the Bureau also proposes to attach all authorizations granted on the same day within the same system to a single email, to the extent capacity allows. The Bureau notes that this would be a voluntary process and if a licensee or registrant did not wish to provide an email address in an application, it could instead obtain official electronic authorizations through License Manager or ASR Dashboard. While the Commission would email the licensee or registrant its official authorizations, the Bureau notes that its proposal does not include sending an official electronic authorization to a “contact” listed on the application. Finally, the Bureau proposes to send official electronic authorizations to valid licensee or registrant email addresses regardless of whether a licensee or registrant obtained its authorization(s) electronically through License Manager or ASR Dashboard, or elected to continue receiving official authorizations on paper through the U.S. Postal Service. The Bureau seeks comment on its proposal for sending official electronic authorizations, upon grant of an application, to the email address voluntarily included with licensee or registrant information in the application.

Options for Continuing To Receive Official Authorizations on Paper. While the default process under its proposal is to stop printing and mailing out official authorizations, the Bureau also proposes options by which a licensee or registrant could notify the Commission that it wished to continue receiving its official authorization(s) on paper. First, both License Manager and ASR Dashboard now include a setting that allows a licensee or registrant to notify the Commission whether it wishes to receive official authorization(s) on paper. Once final procedures become effective designating electronic delivery as the default, if a licensee or registrant wished to continue receiving official authorizations on paper, the licensee or registrant could change the setting so that once an application was granted, the Commission would print and mail out on paper the resulting official authorization(s) associated with the licensee's or registrant's FCC Registration Number (FRN). Licensees or registrants that use more than one FRN would be required to change the default setting for each FRN in each applicable system, ULS and ASR, to the extent they wished to receive official paper authorizations specifically associated with a particular FRN. The Bureau further notes that, under its proposal, while the default setting would be set so that the Commission would no longer print and mail out official paper authorizations, the setting would have no effect on how the Commission processed other applicant, licensee or registrant correspondence and notices generated by ULS or the ASR System. The proposed procedure for changing the setting is detailed below.

Second, a licensee or registrant could contact the Licensing Support Center via phone, web or mail to request paper authorizations. Using any of these methods, which are also detailed below, the licensee or registrant would be required to provide its FRN(s), and whether its request applied to ULS or the ASR System, or both. After the Commission processed the request, once any pending or future application associated with the FRN(s) that the licensee or registrant provided was granted, the resulting authorization(s) would be printed on paper and mailed through the U.S. Postal Service to the licensee or registrant at the licensee or registrant address specified on the application. The Bureau notes that if a licensee or registrant elects to receive paper authorizations using any of these options, the licensee or registrant would also continue to have access to their authorizations electronically through License Manager or ASR Dashboard. Finally, the Bureau notes that the process for obtaining duplicate paper copies of licenses or registrations by filing an application, along with any applicable filing fee, through ULS or the ASR System would remain available under its proposal. The Bureau seeks comment on these options for licensees and registrants that wish to continue receiving their official authorizations on paper by mail.

The Bureau's intent is to provide access to official electronic authorizations and to address associated issues with regard to making documents available electronically using today's technology, while also accommodating those who wish or need to continue receiving paper authorizations through the U.S. Postal Service. The Bureau is also aware that over time, this enhanced process will continue to change as technology evolves. That said, the Bureau is also interested in whether there are other issues that need to be addressed in this transition to official electronic authorizations, and how those issues may be resolved.

The Interim Test Period

In conjunction with seeking comment on certain proposed procedures, the Bureau is initiating an “interim test period,” which will continue until final procedures become effective. In particular, the Commission has enhanced ULS and the ASR System to make some of the options included in the Bureau's proposal available for voluntary use during this interim test period so that licensees and registrants can evaluate their experience in accessing official electronic authorizations online and provide feedback to the Bureau through the public comment process. All licensees and registrants can access through License Manager or ASR Dashboard the official electronic versions of their current authorizations in Active status, whether granted prior to or after release of the Notice.

They may also elect to stop receiving paper copies. During this interim test period, once a pending application is granted, and ULS or the ASR System has generated the official authorization, the Commission will continue to print the authorization on paper, place it in a postage-paid envelope, and mail it through the U.S. Postal Service to the licensee or registrant, unless the licensee or registrant elects to stop receiving paper copies using the setting now included in both License Manager and ASR Dashboard. If a licensee or registrant wishes to stop receiving official authorizations on paper during the interim test period, the licensee or registrant must change the setting so that the Commission will no longer print and mail out on paper any official authorizations associated with the licensee's or registrant's FRN. The procedure for changing the setting is detailed below.

Posting and Record Retention Rules

Finally, some of the Commission's wireless service-specific rules require licensees to retain current authorizations as part of their station records, and, for some services, licensees must post paper copies of their station authorizations at certain locations. In addition, Commission rules require antenna structure owners to post the Antenna Structure Registration Number at each facility, and to provide all tenant licensees (and permittees) on the structure access to a copy of the FCC Form 854R, Antenna Structure Registration. The Bureau notes that enhancing the Commission's licensing and Antenna Structure Registration systems to replace official paper authorizations with official electronic authorizations does not affect these rules. The Bureau further notes that the Commission recently adopted revisions to its part 17 rules, which become effective October 24, 2014, including modified requirements for posting Antenna Structure Registration Numbers and mailing registrations to tenant licensees and permittees. The enhancements described in the Notice are independent of the proposals adopted in that rulemaking.

Instructions for Downloading Authorizations

ULS. The Commission is currently providing both temporary and permanent links on the License Manager homepage to download authorizations in ULS. The temporary link, “download your official electronic authorizations now,” can be found on a green bar across the top of the License Manager homepage. The permanent link, “Download Electronic Authorizations,” can be found in the navigation bar on the left side of the License Manager homepage.

ASR. The link to download Antenna Structure Registrations, “Download Official Registration,” can be found on the registrant's ASR Dashboard homepage as well as under the “My Registrations” tab on its ASR Dashboard.

Instructions for Selecting Electronic or Paper Authorizations During the Interim Test Period

Instructions for Continuing To Receive Paper Authorizations During the Interim Test Period

ULS. The Commission is also providing both temporary and permanent links in ULS on the License Manager homepage to access the new default setting that allows licensees and registrants to notify the Commission whether they wish to receive authorizations on paper through the U.S. Postal Service. The temporary link, “Change your paper authorization preferences here,” can be found on a green bar across the top of the License Manager homepage. The permanent link, “Set Paper Authorization Preferences,” can be found in the navigation bar on the left side of the License Manager homepage. Once accessed, the default setting will look like this during the interim test period:

“Receive Paper Authorizations? x Yes _ No”

ASR. The default setting in the ASR System is located on the home page of a registrant's ASR Dashboard and will look like this during the interim test period:

“Receive Paper Registrations? x Yes _ No”

If a licensee or registrant wishes to continue receiving official authorizations on paper during the interim test period, they do not need to make any changes to the settings in License Manager or ASR Dashboard.

Instructions for Selecting Electronic-Only Authorizations During the Interim Test Period

If a licensee or registrant wishes to stop receiving official authorizations on paper during the interim test period, the licensee or registrant must change the setting(s) described above by checking the “No” box. If the setting is changed to “No,” the Commission will no longer print and mail out on paper any official authorizations associated with the licensee's or registrant's FRN(s).

Instructions for Selecting Electronic or Paper Authorizations Upon Implementation of Final Procedures

Instructions for Continuing To Obtain Electronic-Only Authorizations Upon Implementation of Final Procedures

ULS. Upon adoption of final procedures, the Commission would continue to provide, for a period of time, the same temporary and permanent links described in the interim test period instructions on the License Manager homepage to access the default setting in ULS. Once accessed, the default setting would look like this upon implementation of final procedures:

“Receive Paper Authorizations? _ Yes x No”

ASR. Upon adoption of final procedures, the default setting in the ASR System would be located on the homepage of the registrant's ASR Dashboard and would look like this upon implementation of final procedures:

“Receive Paper Registrations? _ Yes x No”

Upon adoption of final procedures, if a licensee or registrant wished to only obtain official authorizations electronically through ULS or the ASR System, they would not need to make any changes to the settings in License Manager or ASR Dashboard. If the licensee or registrant did not change the setting, the Commission would no longer print and mail out on paper official authorizations associated with the licensee's or registrant's FRN(s).

Instructions for Obtaining Paper Authorizations Upon Implementation of Final Procedures

Once the Bureau implements final procedures, if a licensee or registrant wished to receive official authorizations on paper, the licensee or registrant could change the setting(s) described above by checking the “Yes” box.

OR

The licensee or registrant could contact the Licensing Support Center via phone, Web or mail. All requests would be required to include the licensee's or registrant's FRN(s), and whether the request applied to ULS or the ASR System, or both.

Phone: (877) 480-3201, Option 2; TTY (888) 225-5322, Option 2.

Web: https://esupport.fcc.gov/request.htm.

Mail: Send a letter to the Wireless Telecommunications Bureau, Technologies, Systems and Innovation Division, 1270 Fairfield Road, Gettysburg, Pennsylvania 17325-7245.

If a licensee or registrant changed the setting(s) described above to “Yes” or used any of these other options, once an application was granted, the Commission would print and mail out on paper the resulting official authorization(s) associated with the licensee's or registrant's FRN(s). Finally, the Bureau notes that if a licensee or registrant elected to receive paper authorizations upon implementation of final procedures, the licensee or registrant would also continue to have access to their authorizations electronically through License Manager or ASR Dashboard.

This proceeding has been designated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to that data or arguments in his or her prior comments, memoranda, or other filings (specifying the relevant page and/or paragraph numbers where the data or arguments can be found) in lieu of summarizing them in the memorandum. Documents shown or given to Commission staff during ex parte meetings are deemed to be written ex parte presentations and must be filed consistent with § 1.1206(b) of the Commission's rules. In proceedings governed by § 1.49(f) or for which the Commission has made available a method of electronic filing, written ex parte presentations and memoranda summarizing oral ex parte presentations and all attachments to those documents must be filed through the electronic comment filing system available for that proceeding, and must be filed in their native format (e.g., .doc, .xml, .ppt, searchable .pdf). Participants in this proceeding should familiarize themselves with the Commission's ex parte rules.

Federal Communications Commission.
Jessica Almond,
Chief of Staff, Wireless Telecommunications Bureau.

[FR Doc. 2014-25749 Filed 10-28-14; 8:45 am]

BILLING CODE 6712-01-P